DEPARTMENT OF ENERGY

Federal Energy Regulatory Commission

Sunshine Act; Notice of Meeting

January 8, 2002.

The following notice of meeting is published pursuant to section 3(a) of the Government in the Sunshine Act (Pub. L. No. 94-409), 5 U.S.C. 552b:

Agency Holding Meeting: Federal Energy Regulatory Commission.

Date and Time: January 16, 2002 (30 Minutes Following Regular Commission Meeting).

Place: Room 2C, 888 First Street, NE., Washington, DC 20426.

Status: Closed.

Matters to be Considered: Docket No. RM02-4-000, Critical Energy Infrastructure Information, Docket No. PL02-1-000, Treatment of Previously Public Documents.

Contact Person for More Information: C.B. Spencer, Acting Secretary, Telephone (202) 208-0400.

C.B. Spencer,
Acting Secretary.

[FR Doc. 02-840 Filed 1-9-02; 10:00 am]

BILLING CODE 6717-01-P